DEPARTMENT OF DEFENSE

GENERAL SERVICES ADMINISTRATION

NATIONAL AERONAUTICS AND SPACE ADMINISTRATION

48 CFR Parts 1, 36, and 53

[FAC 2001-18; FAR Case 2000-608; Item I]

RIN 9000-AJ15

Federal Acquisition Regulation; New Consolidated Form for Selection of Architect-Engineer Contractors

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to replace Standard Form (SF) 254, Architect-Engineer and Related Services Questionnaire, and SF 255, Architect-Engineer and Related Services Questionnaire for Specific Projects, with SF 330, Architect-Engineer Qualifications. The SF 330 reflects current architect-engineer practices in a streamlined and updated format, and is organized into data blocks that readily support automation.

DATES: Effective Date: January 12, 2004.

Applicability Date: The policies and the SF 330, Architect-Engineer Qualifications, of this final rule apply for all agencies and their solicitations issued on or after January 12, 2004. However, agencies may delay implementation of this final rule until June 8, 2004, at which time it becomes mandatory for all agencies and their solicitations issued on or after that date.

FOR FURTHER INFORMATION CONTACT: The FAR Secretariat, Room 4035, GS Building, Washington, DC 20405, (202) 501-4755, for information pertaining to status or publication schedules. For clarification of content, contact Ms. Cecelia Davis, Procurement Analyst, at (202) 219-0202. Please cite FAC 2001-18, FAR case 2000-608.

SUPPLEMENTARY INFORMATION:

A. Background

An interagency ad hoc committee developed the SF 330. It was based on the results of a joint Federal-industry survey of the existing Standard Forms (SFs) 254 and 255 conducted by the Standing Committee on Procurement and Contracting of the Federal Facilities Council (FCC) in 1995 and published in 1996 as FCC Report Number 130, entitled “Survey on the Use of Standard Forms 254 and 255 for Architect-Engineer Qualifications.” The survey's purpose was to evaluate the current use of the forms which are used for the submission of qualifications by architect-engineer (A-E) firms interested in Federal contracts, and to identify possible improvements which would enable the existing forms to better serve the needs of Federal agencies and the A-E industry. The SFs 254 and 255 have changed little since their introduction in 1975, although the variety of A-E services has greatly expanded and new technologies have dramatically changed the way A-E firms do business. The report states that Federal agencies and A-E industry overwhelmingly support a structured format for submitting A-E qualifications, because the structured format saves time and effort and allows efficient and consistent evaluations. It also recommends many specific changes to the existing forms to enhance their effectiveness and simplify their use. Both Federal and A-E industry practitioners believe that the forms need streamlining as well as updating to facilitate electronic usage. The objectives of the SF 330 are to merge the SFs 254 and 255 into a single streamlined form, expand essential information about qualifications and experience, reflect current architect-engineer disciplines, experience types and technology, eliminate information of marginal value, permit limitations on submission length, and facilitate electronic usage. On October 19, 2001, a proposed FAR rule for a new Architect-Engineer Qualifications form was published in the Federal Register (66 FR 53314). The final rule replaces SFs 254 and 255 with SF 330, and makes related FAR revisions in 1.106, 36.603, 36.702, 53.236-2, 53.301-254, 53.301-255, and 53.301-330. SF 330 may be used beginning on January 12, 2004. However, until June 8, 2004, agencies may authorize the continued use of SFs 254 and 255 instead.

1. Extension of Comment Period. The FAR Council published this FAR case as a proposed rule in the Federal Register on October 19, 2001 (66 FR 53314), and later published an extension on December 20, 2001 (66 FR 65792). This extended the comment period from December 18, 2001, to January 8, 2002. One hundred and ten public comments were received from industry and Federal Government agencies.

2. Summary of Public Comments.

A. General Comments:

Comment: The new form for A-E qualifications is not necessary.

Response: SFs 254 and 255 were issued in 1975 and have changed little. However, there have been significant changes in the A-E industry since then, such as new technologies, changes in codes and standards, and new laws and regulations. Also, there have been substantial changes in Government contracting processes and agencies' requirements. The SF 330 reflects these changes and provides a more streamlined presentation of essential information required by agencies for selecting A-E firms.

Comment: Significant effort will be required to convert existing databases that have been developed for use with SFs 254 and 255, especially converting the profile codes.

Response: The SF 330 utilizes much of the same information as the SFs 254 and 255, which should minimize the effort required to convert existing databases for use with the new form. All of the existing experience categories that appear on the SF 254 have been retained (although a new alphanumeric system is used for the profile codes), and new experience categories have been added to reflect industry changes since the forms were first developed in 1975. Hence, firms do not have to change the current experience categories for example projects in their databases. Commercial software products for preparing the SF 330 should allow for easy conversion of the existing numeric profile codes to the new alphanumeric profile codes. The change to an alphanumeric code system allows for future profile code additions with minimal changes to the form.

Comment: The SF 330 overemphasizes branch offices, which will increase the cost of submissions and is not relevant for a large firm with a matrix organization.

Response: The A-E selection process is focused on the specific team proposed for the contract. Although a firm may have many branch offices, a specific office is typically assigned the lead role for the work, with possible support from one or more other offices. A Government A-E selection board is mainly concerned with the qualifications of the branch offices designated to perform the work, and not the entire firm. The form and instructions were changed to only require information on the branch offices having a key role in the contract, not all offices.

Comment: The SF 330 does not work well for indefinite delivery contracts (IDCs).

Response: The SF 330 requires submission of essentially the same information as SFs 254 and 255, and can be adapted for use with IDCs in the same manner as SFs 254 and 255. In fact, the language of the SF 330 emphasizes “contracts” instead of “projects” to reflect the Federal Government's current use of IDCs instead of project-specific contracts.

Comment: What is the implementation schedule for the SF 330?

Response: The SF 330 is effective January 12, 2004. However, the Councils have recommended that agencies may delay implementation of the SF 330 until June 8, 2004, at which time it becomes mandatory for all agencies and their solicitations issued on or after that date.

Comment: Can the SF 330 be expanded?

Response: The SF 330 can be expanded in the same manner as the SFs 254 and 255. Data elements have been realigned on the final form to allow vertical expansion and contraction, depending upon the amount of information inserted. Additional sheets can be attached to certain sections.

Comment: The page numbering system is burdensome and confusing.

Response: We eliminated the requirement for insertion of page numbers on the completed form.

Comment: Will the SF 330 be available electronically and in what format?

Response: The SF 330 will be posted electronically on the General Services Administration forms website in a screen-fillable format, Adobe Acrobat Portable Document Format, and possibly other formats. Also, commercial vendors will develop customized software products for preparation of the SF 330, similar to those currently available for the SFs 254 and 255. Individual agencies will specify if electronic submission is required and the specific format to use.

B. Comments on Part I:

Comment: The SF 330 overemphasizes the importance of previous relationships and teams, and discourages new firms and teams.

Response: The Brooks A-E Act requires that A-E firms be selected “on the basis of demonstrated competence.” Hence, the proven competence of project teams is an important consideration in selecting A-E firms, which is reflected in the information on previous teaming arrangements required on the SF 330. On each contract submission, an A-E firm must decide whether to team with previous partners and subcontractors or to make new alliances.

Comment: The requirement for organizational “flowchart” in Section D is unclear and will be burdensome to show all branch offices.

Response: We have clarified the instructions to require an organizational chart of the proposed team showing the names and roles of all key personnel listed in Section E and the firms they are associated with, as listed in Section C. Also, only those branch offices having a key role in the contract need to be shown, not every office involved.

Comment: Revise Section E to allow more than 5 relevant projects for each key person.

Response: We disagree. Five projects are sufficient to demonstrate that a person has experience in the required type of work. The SF 330 actually provides more space for the experience of key persons than the SF 255.

Comment: Need instructions on the number, size, type, labeling, attachment and page numbering of photos for Section E (Resumes of Key Personnel Proposed for This Contract) and Section F.

Response: The Councils have deleted the instructions and check boxes for photos. If an agency requires photos, it will provide specific submission instructions.

Comment: What happens if a firm has less than 10 example projects to present in Section F?

Response: The requirement for 10 projects is the same as on the SF 255. A firm should present as many relevant projects as it can, up to a total of ten.

Comment: Clarify owner versus client in Section F. The user may be a better point of contact.

Response: The term “project owner” was used on the SF 255 and is used in the same manner on the SF 330. As defined in the instructions, the project owner is the agency, installation, institution, corporation or private individual for whom the project was performed. The client may or may not be the project owner, depending on what organization awarded and managed the A-E contract. The point of contact may be a person associated with the project owner or the organization that contracted for the professional services, as long as the person is familiar with the project and the A-E firm's performance on that project.

Comment: The request for fee information on past projects in Section F violates the Brooks A-E Act on using price in A-E selections.

Response: We have eliminated the requirement for fee information on past projects.

Comment: The matrix in Section G, Key Personnel Participation in Example Projects, is redundant with other information on the SF 330.

Response: The matrix does include the names of the key personnel and their proposed roles from Section E and the titles of the example projects from Section F. But, repetition of this information is necessary to clearly portray which personnel have worked together before on the example projects, which is only partially shown in Section E and Section F. Also, Section E provides space for five relevant projects for each key person, which may or may not be any of the ten example projects for the team in Section F.

Comment: Is there a page limit on Section H—Additional Information? Can photos and graphics be included?

Response: Individual agencies may impose page limitations on the overall SF 330 and/or Section H. Photos and graphics may be inserted in Section H if they are requested by the agency.

C. Comments on Part II:

Comment: Will the Architect-Engineer Contract Administration Support System (ACASS) be changed to reflect the SF 330?

Response: Yes. ACASS, which is DoD-wide database maintained by the Portland, Oregon, District of the U.S. Army Corps of Engineers, will be changed to accommodate the SF 330, Part II, instead of the SF 254.

Comment: How are unlisted disciplines added to block 9—Employees by Discipline?

Response: The instructions indicate that any additional unlisted disciplines should be written in under column 9.b and the function code left blank. This is similar to the write-in procedure for the SF 254.

Comment: Many specific additional disciplines should be added to the List of Disciplines (Function Codes) in the instructions.

Response: Thirty commenters recommended specific additions, deletions and/or changes in the listed disciplines. Generally, we have added, deleted, and changed disciplines if suggested by three or more commenters. Specifically, we added the following disciplines: aerial photographer, archeologist, computer programmer, materials handling engineer, geographic information system specialist, hydraulic engineer, hydrographic surveyor, land surveyor, photogrammetrist, remote sensing specialist, sanitary engineer, water resources engineer, and photo interpreter. We deleted topographic surveyor, draftsperson, geospacial information systems, and information systems engineer. We changed specification engineer to specifications writer, and separated electrical/electronics engineer into separate disciplines.

Comment: Firms need to be able to expand block 9 to allow for more than 20 disciplines.

Response: We disagree. The principal competencies and expertise of a firm, which is the focus of the Brooks A-E Act, can typically be covered by its 20 most prevalent disciplines.

Comment: How are unlisted profile codes added to block 10 (Profile of Firm's Experience and Annual Average Revenue for the Last 5 Years)?

Response: The instructions indicate that any additional unlisted relevant experience categories should be written in under column 10.b and the profile codes left blank. This is similar to the write-in procedure for the SF 254.

Comment: Many specific additional experience categories (profile codes) should be added to the List of Experience Categories (Profile Codes) in the instructions.

Response: We revised the experience categories of many profile codes so that they exactly matched all of the existing profile code experience categories on the SF 254, minimizing the conversion of existing project databases to the new form. Twenty-one commenters recommended specific additions, deletions, and/or changes in the listed profile code experience categories. We added and changed the profile code experience categories if suggested by two or more commenters. Specifically, we added the following profile code experience categories: Aerial Photography, Airborne Data and Imagery Collection and Analysis; Anti-Terrorism/Force Protection; Cartography; Charting: Nautical and Aeronautical; Digital Elevation and Terrain Model Development; Digital Orthophotography; Environmental and Natural Resource Mapping; Environmental Planning; Geodetic Surveying: Ground and Airborne; Geospatial Data Conversion: Scanning, Digitizing, Compilation, Attributing, Scribing, Drafting; Intelligent Transportation Systems; Mapping Location/Addressing Systems; Navigation Structures and Locks; and Remote Sensing. Finally, we changed the following profile code experience categories: Aerial Photogrammetry to Photogrammetry; Design-Build to Design-Build—Preparation of Requests for Proposals; Geographic Information System Development/Analysis to Geographic Information System Services: Development, Analysis, and Data Collection; Land Boundary Surveying to Land Surveying; and Topographic Mapping to Topographic Surveying and Mapping.

Comment: Firms need to be able to expand block 10 to allow for more than 20 profile codes.

Response: We disagree. The principal competencies and expertise of a firm, which is the focus of the Brooks A-E Act, can typically be covered by its 20 most prevalent profile codes.

Comment: Are individual projects illustrating each profile code listed in block 10?

Response: No. The profile code description is inserted in column 10.b. Specific example projects are not required in Part II, although they were required in the SF 254 to illustrate each profile code.

Comment: Block 10—Profile of Firm's Experience, requires data for 5 years, but block 11—Annual Average Professional Services Revenues, requires data for 3 years. The same time period should be used for both blocks.

Response: We disagree. There is no reason that the time periods for these blocks must be the same. The 3-year period for revenues in block 11 was selected to be compatible with the same period used for measuring the revenues of small businesses. A 3-year basis for computing average revenues is sufficient to determine the annual workload capacity of a firm. On the other hand, 3 years is not long enough to characterize the type of work a firm does, especially since the design phase of some large projects can last 2 to 3 years. Therefore, 5 years was selected for block 10.

Comment: Include example projects in Part II as were included in the SF 254.

Response: We disagree. Selection boards rarely refer to the example projects in block 11 of the SF 254. Instead, selection boards focus on the example relevant projects in block 8 of the SF 255, which corresponds with Section F of SF 330, Part I.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because this final rule does not change the current policy on how architect-engineer contracts are awarded or administered. This change deals directly with the information collection questionnaire, which is a paperwork change. This SF 330 provides a more streamlined format that reflects the current architect-engineer practices and eliminates requesting unnecessary information as requested by the current SFs 254 and 255.

Overall, the SF 330 will request less information than the SFs 254 and 255 and will take no longer to complete than the SFs 254 and 255. There was a comment period and no comments were received from small businesses complaining of any additional burden to them as a result of the SF 330.

C. Paperwork Reduction Act

The Paperwork Reduction Act (Pub. L. 104-13) applies because the final rule contains information collection requirements. The final rule replaces the current SF 254, Architect-Engineer and Related Services Questionnaire, and the current SF 255, Architect-Engineer and Related Services Questionnaire for Specific Project, with a new SF 330, Architect-Engineer Qualifications. The current SF 254 approved information collection requirement states that it takes 1 hour to complete; and the current SF 255 approved information collection requirement states that it takes 1 hour to complete. Experience has shown that these hours are substantially underestimated. The SF 330, Architect-Engineer Qualifications, has been developed by an interagency ad hoc committee, based on Federal Facilities (FCC) Council Technical Report No. 130, “Joint Federal-Industry Survey on the use of SFs 254 and 255 for Architect-Engineer Qualifications,” 1996.

To respond to a public comment that the reporting burden for this SF 330 is significantly underestimated, we acknowledge that additional effort will be required initially for firms to become familiar with using the new SF 330. However, after the transition, the SF 330 should take no longer to complete than SFs 254 and 255. Overall, the SF 330 requires less information than SFs 254 and 255. The following information was deleted: duplication of data on number of personnel by discipline (SF 255, block 4 and SF 254, block 8); work currently being performed for Federal agencies (SF 255, block 9); list of all offices and number of personnel in each (SF 254, block 7); revenue information for each of last 5 years (SF 254, block 9); number of projects for each profile code (SF 254, block 10); and 30 example projects (SF 254, block 11). Also, the profile of a firm's project experience is expressed in ranges on the SF 330 instead of specific dollar amounts (SF 254, block 10). The following information was added in comparison to the SF 255: organization chart of proposed team, expanded information on the firm's example projects, and matrix of key personnel participation in example projects. However, firms typically provide much or all of this information now in project submissions. Hence, there is no meaningful burden over current practices. Accordingly, the new information collection requirement for SF 330 has been submitted to the Office of Management and Budget during the proposed rule stage and has received concurrence.

List of Subjects in 48 CFR Parts 1, 36, and 53

Government procurement.

Dated: December 4, 2003.
Laura Auletta,
Director, Acquisition Policy Division.

Therefore, DoD, GSA, and NASA amend 48 CFR parts 1, 36, and 53 as set forth below:

1. The authority citation for 48 CFR parts 1, 36, and 53 is revised to read as follows:

Authority: 40 U.S.C. 121(c); 10 U.S.C. chapter 137; and 42 U.S.C. 2473(c).

PART 1—FEDERAL ACQUISITION REGULATIONS SYSTEM

1.106 [Amended]

2. Amend section 1.106 in the table following the introductory paragraph by—

a. Removing from FAR segment 36.603 its corresponding OMB Control Number “9000-0004 and 9000-0005” and adding “9000-0157” in its place;

b. Removing the FAR segments “SF 254” and “SF 255” and their corresponding OMB Control Numbers “9000-0004” and “9000-0005”, respectively; and

c. Adding FAR segment “SF 330” and its corresponding OMB Control Number “9000-0157”.

PART 36—CONSTRUCTION AND ARCHITECT-ENGINEER CONTRACTS

3. Amend section 36.603 by—

a. Revising paragraph (b);

b. Removing “SF's 254 and 255” from the last sentence of the introductory text of paragraph (c) and adding “SF 330” in its place; and

c. Removing “254” from paragraph (d)(1) and adding “330, Part II” in its place; and in paragraph (d)(2) by removing “SF's 254 and 255” and adding “SF 330, Part II,” in its place.

The revised text reads as follows:

36.603 Collecting data on and appraising firms' qualifications.

* * * * *

(b) Qualifications data. To be considered for architect-engineer contracts, a firm must file with the appropriate office or board the Standard Form 330, “Architect-Engineer Qualifications,” Part II, and when applicable, SF 330, Part I.

* * * * *

4. Amend section 36.702 by revising paragraph (b) to read as follows:

36.702 Forms for use in contracting for architect-engineer services.

* * * * *

(b) The SF 330, Architect-Engineer Qualifications, shall be used to evaluate firms before awarding a contract for architect-engineer services:

(1) Use the SF 330, Part I—Contract-Specific Qualifications, to obtain information from an architect-engineer firm about its qualifications for a specific contract when the contract amount is expected to exceed the simplified acquisition threshold. Part I may be used when the contract amount is expected to be at or below the simplified acquisition threshold, if the contracting officer determines that its use is appropriate.

(2) Use the SF 330, Part II—General Qualifications, to obtain information from an architect-engineer firm about its general professional qualifications.

* * * * *

PART 53—FORMS

5. Amend section 53.236-2 by revising the section heading; removing paragraphs (b) and (c); redesignating paragraph (d) as paragraph (c); and adding a new paragraph (b) to read as follows:

53.236-2 Architect-engineer services (SF's 252, 330, and 1421).

* * * * *

(b) SF 330 (1/04), Architect-Engineer Qualifications. SF 330 is prescribed for use in obtaining information from architect-engineer firms regarding their professional qualifications, as specified in 36.702(b)(1) and (b)(2).

* * * * *

6. Add section 53.301-330 to read as follows:

53.301-330 Architect-Engineer Qualifications.

BILLING CODE 6820-EP-P

[FR Doc. 03-30472 Filed 12-10-03; 8:45 am]

BILLING CODE 6820-EP-C